DEPARTMENT OF COMMERCE

International Trade Administration

[C-489-834]

Large Diameter Welded Pipe From the Republic of Turkey: Rescission of 2018-2019 Countervailing Duty Administrative Review

AGENCY: Enforcement and Compliance, International Trade Administration, Department of Commerce.

SUMMARY: The Department of Commerce (Commerce) is rescinding the administrative review of the countervailing duty (CVD) order on large diameter welded carbon and alloy steel structural pipe (welded structural pipe) from the Republic of Turkey (Turkey) for the period of review (POR) June 29, 2018, through December 31, 2019.

DATES: Applicable November 2, 2020.

FOR FURTHER INFORMATION CONTACT: Ajay Menon, AD/CVD Operations, Office II, Enforcement and Compliance, International Trade Administration, U.S. Department of Commerce, 1401 Constitution Avenue NW, Washington, DC 20230; telephone: (202) 482-1993.

Background

On May 1, 2020, Commerce published in the Federal Register a notice of opportunity to request an administrative review of the CVD order on welded structural pipe from Turkey for the POR.¹ On June 1, 2020, Commerce received a timely request from American Cast Iron Pipe Company; Berg Steel Pipe Corp.; Berg Spiral Pipe Corp.; Dura-Bond Industries; Stupp Corporation; and Welspun Global Trade LLC; individually and as members of the American Line Pipe Producers Association; Greens Bayou Pipe Mill, LP; JS W Steel (USA) Inc.; Skyline Steel; and Trinity Products LLC (collectively, the petitioners), in accordance with section 751(a) of the Tariff Act of 1930, as amended (the Act), and 19 CFR 351.213(b), to conduct an administrative review of this CVD order for 16 companies.²

¹ See Antidumping or Countervailing Duty Order, Finding, or Suspended Investigation; Opportunity to Request Administrative Review, 85 FR 25394 (May 1, 2020).

² See Petitioners' Letter, “Large Diameter Welded Pipe from Turkey: Request for Administrative Review,” dated June 1, 2020.

On July 10, 2020, Commerce published in the Federal Register a notice of initiation with respect to these companies.³ On October 7, 2020, the petitioners timely withdrew their request for an administrative review for all 16 companies.⁴

³ See Initiation of Antidumping and Countervailing Duty Administrative Reviews, 85 FR 41540 (July 10, 2020).

⁴ See Petitioners' Letter, “Large Diameter Welded Pipe from the Republic of Turkey: Withdrawal of Request for Administrative Review,” dated October 7, 2020.

Rescission of Review

Pursuant to 19 CFR 351.213(d)(1), Commerce will rescind an administrative review, in whole or in part, if the parties that requested a review withdraw the request within 90 days of the date of publication of notice of initiation of the requested review. As noted above, the petitioners withdrew their request for review by the 90-day deadline, and no other party requested an administrative review of this order. Therefore, we are rescinding the administrative review of the CVD order on welded structural pipe from Turkey covering the POR in its entirety.

Assessment

Commerce will instruct U.S. Customs and Border Protection (CBP) to assess countervailing duties on all appropriate entries. Because Commerce is rescinding this administrative review in its entirety, the entries to which this administrative review pertained shall be assessed at rates equal to the cash deposit of estimated countervailing duties required at the time of entry, or withdrawal from warehouse, for consumption, in accordance with 19 CFR 351.212(c)(1)(i). Commerce intends to issue appropriate assessment instructions directly to CBP 15 days after the date of publication of this notice in the Federal Register.

Notification Regarding Administrative Protective Orders

This notice serves as the only reminder to parties subject to administrative protective order (APO) of their responsibility concerning the return or destruction of proprietary information disclosed under APO in accordance with 19 CFR 351.305(a)(3). Timely written notification of the return/destruction of APO materials or conversion to judicial protective order is hereby requested. Failure to comply with the regulations and terms of an APO is a sanctionable violation.

Notification to Interested Parties

This notice is issued and published in accordance with sections 751(a)(1) and 777(i)(1) of the Act and 19 CFR 351.213(d)(4).

Dated: October 27, 2020.
James Maeder,
Deputy Assistant Secretary for Antidumping and Countervailing Duty Operations.

[FR Doc. 2020-24178 Filed 10-30-20; 8:45 am]

BILLING CODE 3510-DS-P